DEPARTMENT OF ENERGY

Federal Energy Regulatory Commission

[Docket No. RP00-494-002]

Williams Gas Pipelines Central, Inc.; Notice of Compliance Filing

December 11, 2002.

Take notice that on December 4, 2002, Williams Gas Pipelines Central, Inc. (Central) tendered for filing, as part of its FERC Gas Tariff, Original Volume No. 1, the following tariff sheets to become effective as noted.

Effective October 1, 2002

Substitute Original Sheet No. 298B

Effective April 1, 2003

Substitute Second Revised Sheet No. 250

Central states that this filing is being made to comply with the Commission's Second Order on Compliance with Order Nos. 637 issued on November 4, 2002 (101 FERC ¶ 61,164 (2002)). The tariff changes filed herewith are intended only to implement certain changes directed by the Commission in its November 4 Order.

Central states that a copy of its filing was served on all jurisdictional customers and interested state commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document.

For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-31729 Filed 12-17-02; 8:45 am]

BILLING CODE 6717-01-P